DEPARTMENT OF COMMERCE

Foreign-Trade Zones Board

[B-02-2020]

Foreign-Trade Zone 104—Savannah, Georgia; Application for Reorganization (Expansion of Service Area) Under Alternative Site Framework

An application has been submitted to the Foreign-Trade Zones (FTZ) Board by World Trade Center Savannah, LLC, grantee of Foreign-Trade Zone 104, requesting authority to reorganize the zone to expand its service area under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on January 14, 2020.

FTZ 104 was approved by the FTZ Board on April 18, 1984 (Board Order 256, 49 FR 17789, April 25, 1984), reorganized under the ASF on January 12, 2011 (Board Order 1736, 76 FR 4865, January 27, 2011) and the ASF service area was expanded on June 10, 2013 (Board Order 1904, 78 FR 36165, June 17, 2013) and on March 12, 2015 (Board Order 1965, 80 FR 14940-14941, March 20, 2015). The zone currently has a service area that includes Bulloch, Bryan, Candler, Chatham, Columbia, Effingham, Emanuel, Evans, Jenkins, Liberty, Long, Richmond, Screven, Tattnal, Toombs and Treulten Counties, Georgia.

The applicant is now requesting authority to expand the service area of the zone to include Burke County, Georgia, as described in the application. If approved, the grantee would be able to serve sites throughout the expanded service area based on companies' needs for FTZ designation. The application indicates that the proposed expanded service area is adjacent to the Savannah, Georgia U.S. Customs and Border Protection Port of Entry

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is March 27, 2020. Rebuttal comments in response to material submitted during the foregoing period may be submitted during the subsequent 15-day period to April 13, 2020.

A copy of the application will be available for public inspection in the “Reading Room” section of the FTZ Board's website, which is accessible via www.trade.gov/ftz. For further information, contact Christopher Kemp at Christopher.Kemp@trade.gov or (202) 482-0862.

Dated: January 16, 2020.
Andrew McGilvray,
Executive Secretary.

[FR Doc. 2020-01318 Filed 1-24-20; 8:45 am]

BILLING CODE 3510-DS-P